DEPARTMENT OF COMMERCE

National Oceanic and Atmospheric Administration

RIN 0648-XA430

Takes of Marine Mammals Incidental to Specified Activities; Marine Geophysical Survey in the Central-Western Bering Sea, August 2011; Correction

AGENCY: National Marine Fisheries Service (NMFS), National Oceanic and Atmospheric Administration (NOAA), Commerce.

ACTION: Notice; proposed Incidental Harassment Authorization; request for comments; correction.

SUMMARY: On June 8, 2011, a notice was published in the Federal Register announcing that NMFS had received a request for authorization to unintentionally take marine mammals incidental to a marine geophysical survey to be conducted in the central-western Bering Sea in August 2011. That document contained a table with incorrect information regarding the occurrence and densities of marine mammals that may occur in or near the proposed seismic survey areas. This document presents a new table with corrections. All other information is unchanged.

FOR FURTHER INFORMATION CONTACT: Brian D. Hopper, (301) 713-2289.

SUPPLEMENTARY INFORMATION: The notice announcing that NMFS had received an application for the unintentional take of marine mammals incidental to a marine geophysical survey in the central-western Bering Sea in August 2011 (76 FR 33246; June 8, 2011) contained errors in Table 2 regarding the occurrence and densities of marine mammals that may occur in or near the proposed seismic survey area. Accordingly, Table 2 in Federal Register document 76 FR 33246 (pages 33250-33251) has been revised to read as follows:

BILLING CODE 3510-22-P

Dated: June 20, 2011.
P. Michael Payne,
Chief, Permits, Conservation and Education Division, Office of Protected Resources, National Marine Fisheries Service.

[FR Doc. 2011-15861 Filed 6-23-11; 8:45 am]

BILLING CODE 3510-22-C